Title 3—

The President

Presidential Determination No. 2007-23 of June 28, 2007

Presidential Determination to Waive Military Coup-Related Provision of the Foreign Operations, Export Financing, and Related Programs Appropriations Act, 2006, as Carried Forward Under the Revised Continuing Appropriations Resolution, 2007, With Respect to Pakistan

Memorandum for the Secretary of State

Pursuant to the authority vested in me by the Constitution and laws of the United States, including section 534(j) of the Foreign Operations, Export Financing, and Related Programs Appropriations Act, 2006 (the “Act”)(Public Law 109-102), as carried forward under the Revised Continuing Appropriations Resolution, 2007 (Public Law 110-5)(the “Continuing Resolution”), and Public Law 107-57, as amended, I hereby determine and certify, with respect to Pakistan, that a waiver of section 508 of the Act, as carried forward under the Continuing Resolution:

(a) would facilitate the transition to democratic rule in Pakistan; and

(b) is important to United States efforts to respond to, deter, or prevent acts of international terrorism.

Accordingly, I hereby waive, with respect to Pakistan, section 508 of such Act, as carried forward by the Continuing Resolution.

You are authorized and directed to transmit this determination to the Congress and to publish it in the Federal Register.

THE WHITE HOUSE,

Washington, June 28, 2007.

[FR Doc. 07-3373

Filed 7-09-07; 8:45 am]

Billing code 4710-10